DEPARTMENT OF ENERGY

Federal Energy Regulatory Commission

[Docket No. EC00-101-000, et al.]

Xcel Energy Operating Companies, et al.; Electric Rate and Corporate Regulation Filings

September 21, 2000.

Take notice that the following filings have been made with the Commission:

1. Xcel Energy Operating Companies

[Docket Nos. EC99-101-000 and ER99-3916-002]

Take notice that on September 18, 2000, the Xcel Energy Operating Companies (Xcel Energy), comprising Cheyenne Light, Fuel and Power Company, Northern States Power Company, Northern States Power Company (Wisconsin), Public Service Company of Colorado, and Southwestern Public Service Company, submitted a Joint Open Access Transmission Tariff, First Revised Volume No. 1 (Joint OATT).

Xcel Energy requests the First Revised Joint OATT be effective August 18, 2000, the effective date established in Northern States Power Company, et al., 90 FERC ¶ 61,020 (2000) (Merger Order).

Xcel Energy states that since the Merger Order, the Commission has issued a series of orders approving or mandating changes to the individual OATTs of the NCE Companies or the NSP Companies. The First Revised Joint OATT incorporates these changes; the revised Joint OATT does not provide for a change in rates or terms and conditions of service other than as previously approved by the Commission. Xcel Energy states it is replacing the Joint OATT, Original Volume No. 1 (filed contemporaneous with the Xcel Energy merger application), in its entirety to simplify compliance with the new tariff formatting requirements established by Order No. 614. Designation of Electric Rate Schedule Sheets, Order No. 614, II FERC Stats. & Regs. ¶ 31,096 (2000).

Xcel states it will serve a copy of the filing on all parties to this proceeding, on the utility regulatory commissions in the twelve states served by the Xcel Energy Operating Companies, and on all affected transmission service customers.

Comment date: October 10, 2000, in accordance with Standard Paragraph E at the end of this notice.

2. The Connecticut Light and Power Company, Western Massachusetts Electric Company, United Illuminating Company, Central Maine Power Company, Fitchburg Gas and Electric Light Company, New England Power Company, Public Service Company of New Hampshire, Dominion Resources, Inc. and Dominion Nuclear Connecticut, Inc.

[Docket Nos. EC00-137-000 and ER00-3639-000]

Take notice that on September 19, 2000, The Connecticut Light and Power Company, Western Massachusetts Electric Company, The United Illuminating Company, Central Maine Power Company, Fitchburg Gas and Electric Light Company, New England Power Company, Public Service Company of New Hampshire, Dominion Resources, Inc. and Dominion Nuclear Connecticut, Inc. (collectively, Applicants) supplemented their application under Sections 203 and 205 of the Federal Power Act for approvals relating to the sale of the Millstone Nuclear Power Station with other federal/state applications related to the transaction (Exhibit G to the Application, 18 CFR 33.3).

Comment date: October 10, 2000, in accordance with Standard Paragraph E at the end of this notice.

3. Black Hills Corporation

[Docket No. EC00-139-000]

Take notice that on September 12, 2000, Black Hills Corporation filed an application for authorization under Section 203 of the Federal Power Act to implement a plan of corporate restructuring.

Comment date: October 3, 2000, in accordance with Standard Paragraph E at the end of this notice.

4. Griffith Energy LLC

[Docket No. EG00-255-000]

Take notice that on September 18, 2000, Griffith Energy LLC filed with the Federal Energy Regulatory Commission an application for determination of exempt wholesale generator status pursuant to Part 365 of the Commission's regulations, 18 CFR 365.

Griffith Energy LLC, a Delaware limited liability company, is constructing a natural gas-fired generating facility located in Mohave County, Arizona. Griffith Energy LLC is engaged directly and exclusively in the business of owning or operating, or both owning and operating, all or part of one or more eligible facilities and selling electric energy at wholesale. Griffith Energy LLC's mailing address is c/o PPL Global, Inc., 11350 Random Hills Road, Fairfax, VA 22030-6044

Comment date: October 12, 2000, in accordance with Standard Paragraph E at the end of this notice. The Commission will limit its consideration of comments to those that concern the adequacy or accuracy of the application.

5. Central Hudson Gas & Electric Corporation, Consolidated Edison Company of New York, Inc., Long Island Light Company, New York State Electric & Gas Corporation, Niagara Mohawk Power Corporation, Power Authority of the State of New York, Orange and Rockland Utilities, Inc., Rochester Gas and Electric Corporation, New York Power Pool.

[Docket Nos. ER97-1523-054, OA97-470-050 and ER97-4234-048]

Take notice that on September 18, 2000, New York State Electric & Gas Corporation (tendered for filing substitute tariff sheets to the New York Independent System Operator (NYISO) Open Access Transmission Tariff. The tariff sheets are submitted in compliance with the Commission's July 31, 2000 order, wherein the Commission approved a Settlement Agreement in that proceeding. Central Hudson Gas & Electric Corp., et al., 92 FERC 61,128 (2000).

As required by the Commission-approved Settlement Agreement, the above-referenced tariff sheets are effective retroactive to the commencement of NYSIO operations, November 18, 1999.

A copy of this filing was served upon all persons on the Commission's official service list(s) in the captioned proceeding(s), and the respective electric utility regulatory agencies in New York, New Jersey and Pennsylvania.

Comment date: October 10, 2000, in accordance with Standard Paragraph E at the end of this notice.

6. New York Independent System Operator, Inc.

[Docket Nos. ER99-4235-002 and ER00-798-002]

Take notice that on September 18, 2000, New York Independent System Operator, Inc. (NYISO) filed revisions to Schedule 1 of its Open Access Transmission Tariff and Schedule 1 of its Market Administration and Control Area Services Tariff, to comply with the Stipulation and Agreement approved by the order of the Commission in Docket No. ER99-4235-000, et al., issued on August 30, 2000, 92 FERC ¶ 61,180.

The NYISO requests an effective date of September 1, 2000 and waiver of the Commission's notice requirements.

A copy of this filing was served upon all parties in Docket No. ER99-4235-000, et al.

Comment date: October 10, 2000, in accordance with Standard Paragraph E at the end of this notice.

7. NRG Sterlington Power LLC

[Docket No. ER00-3695-000]

Take notice that on September 18, 2000, NRG Sterlington Power LLC tendered for filing under its market-based rate tariff a long-term service agreement with Louisiana Generating LLC.

Comment date: October 10, 2000, in accordance with Standard Paragraph E at the end of this notice.

8. Griffith Energy LLC

[Docket No. ER00-3696-000]

Take notice that on September 18, 2000, Griffith Energy LLC (Griffith Energy) filed an application requesting acceptance of its proposed Market Rate Tariff, waiver of certain regulations, and blanket approvals. The proposed tariff would authorize Griffith Energy to engage in wholesale sales of capacity, energy and ancillary services at market rates.

Comment date: October 10, 2000, in accordance with Standard Paragraph E at the end of this notice.

9. Idaho Power Company

[Docket No. ER00-3697-000]

Take notice that on September 18, 2000, Idaho Power Company (IPC) tendered for filing with the Federal Energy Regulatory Commission a Service Agreement for Firm Point-to-Point Transmission Service between Idaho Power Company and PacifiCorp Power Marketing.

Idaho Power requests that the effective date of the Service Agreement be September 6, 2000.

Comment date: October 10, 2000, in accordance with Standard Paragraph E at the end of this notice.

10. Ameren Services Company

[Docket No. ER00-3698-000]

Take notice that on September 18, 2000, Ameren Services Company (ASC) tendered for filing Service Agreements for Firm Point-to-Point Transmission Service and Non-Firm Point-to-Point Transmission Service between ASC and Associated Electric Cooperative, Inc. ASC asserts that the purpose of the Agreements is to permit ASC to provide transmission service to Associated Electric Cooperative, Inc. pursuant to Ameren's Open Access Transmission Tariff.

ASC requests that the Service Agreements become effective August 29, 2000.

Comment date: October 10, 2000, in accordance with Standard Paragraph E at the end of this notice.

11. Ameren Services Company

[Docket No. ER00-3699-000]

Take notice that on September 18, 2000, Ameren Services Company (ASC) tendered for filing a Service Agreement for Long-Term Firm Point-to-Point Transmission Services between ASC and Tenaska Power Service Company (customer). ASC asserts that the purpose of the Agreement is to permit ASC to provide transmission service to customer pursuant to Ameren's Open Access Transmission Tariff.

ASC respectfully requests that the Service Agreement become effective January 1, 2001.

Comment date: October 10, 2000, in accordance with Standard Paragraph E at the end of this notice.

12. Ameren Services Company

[Docket No. ER00-3700-000]

Take notice that on September 18, 2000, Ameren Services Company (Ameren Services) tendered for filing a Network Operating Agreement and a Service Agreement for Network Integration Transmission Service between Ameren Services and MidAmerican Energy Company. Ameren Services asserts that the purpose of the Agreements is to permit Ameren Services to provide transmission service to MidAmerican Energy Company pursuant to Ameren's Open Access Tariff.

ASC requests that the Network Integration Transmission Service Agreement and Network Operating Agreement become effective September 1, 2000.

Comment date: October 10, 2000, in accordance with Standard Paragraph E at the end of this notice.

13. Florida Power Corporation

[Docket No. ER00-3701-000]

Take notice that on September 18, 2000, Florida Power Corporation (Florida Power) tendered for filing a service agreement providing for non-firm point-to-point transmission service by Florida Power to Conectiv Energy Supply, Inc. (Conectiv) pursuant to its open access transmission tariff.

Florida Power requests that the Commission waive its notice of filing requirements and allow the agreements to become effective on September 19, 2000.

Comment date: October 10, 2000, in accordance with Standard Paragraph E at the end of this notice.

14. Florida Power Corporation

[Docket No. ER00-3702-000]

Take notice that on September 18, 2000, Florida Power Corporation (Florida Power) tendered for filing, a notice of termination of the service agreement for non-firm point-to-point transmission service with Sonat Power Marketing L.P. (now known as El Paso Merchant Energy, L.P.) and Florida Power Corporation (FPC).

Comment date: October 10, 2000, in accordance with Standard Paragraph E at the end of this notice.

15. Louisville Gas and Electric Company/Kentucky Utilities Company

[Docket No. ER00-3710-000]

Take notice that on September 18, 2000, Louisville Gas and Electric Company (LG&E)/Kentucky Utilities Company (KU) (hereinafter Companies) tendered for filing an unexecuted unilateral Service Sales Agreement between Companies and Merrill Lynch Capital Services, Inc. under the Companies' Rate Schedule MBSS.

Comment date: October 10, 2000, in accordance with Standard Paragraph E at the end of this notice.

16. Florida Power Corporation

[Docket No. ER00-3711-000]

Take notice that on September 18, 2000, Florida Power Corporation (Florida Power) tendered for filing a service agreement providing for non-firm point-to-point transmission service and a service agreement providing for short term firm point-to-point transmission service by Florida Power to Constellation Power Source, Inc. pursuant to Florida Power's open access transmission tariff.

Florida Power requests that the Commission waive its notice of filing requirements and allow the agreements to become effective on September 19, 2000.

Comment date: October10, 2000, in accordance with Standard Paragraph E at the end of this notice.

17. Cinergy Services, Inc.

[Docket No. ER00-3713-000]

Take notice that on September 18, 2000, Cinergy Services, Inc. (Cinergy) tendered for filing a Service Agreement under Cinergy's Resale, Assignment or Transfer of Transmission Rights and Ancillary Service Rights Tariff (the Tariff) entered into between Cinergy and El Paso Merchant Energy, L.P. (El Paso). This Service Agreement has been executed by both parties and is to replace the existing unexecuted Service Agreement.

Comment date: October 10, 2000, in accordance with Standard Paragraph E at the end of this notice.

18. Cinergy Services, Inc.

[Docket No. ER00-3714-000]

Take notice that on September 18, 2000, Cinergy Services, Inc. (Cinergy) and Illinova Energy Partners, Inc. are requesting a cancellation of Service Agreements No. 122, under Cinergy Operating Companies, Market-Based Power Sales Tariff—MB, FERC Electric Tariff Original Volume No. 7.

Cinergy requests an effective date of May 31, 2000.

Comment date: October 10, 2000, in accordance with Standard Paragraph E at the end of this notice.

19. Energy Alternatives, Inc.

[Docket No. ER00-3715-000]

Take notice that on September 18, 2000, Energy Alternatives, Inc. (EA) petitioned the Commission for cancellation of EA Rate Schedule FERC No. 1. EA no longer intends to engage in wholesale electric power and energy purchases and sales as a marketer in the near future. There are no purchasers or other parties affected by this cancellation. EA is a wholly-owned subsidiary of Midwest Energy Systems, a Minnesota corporation, which is a wholly-owned subsidiary of Dakota Electric Association, a Minnesota cooperative corporation.

Comment date: October 10, 2000, in accordance with Standard Paragraph E at the end of this notice.

20. NRG Sterlington Power LLC

[Docket No. ER00-3718-000]

Take notice that on September 18, 2000, NRG Sterlington Power LLC tendered for filing a Notice of Succession pursuant to 18 CFR 35.16 of the Commission's regulations in order to reflect the succession of NRG Sterlington Power LLC to the interests of Koch Power Louisiana, L.L.C.

Comment date: October 10, 2000, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-24928 Filed 9-27-00; 8:45 am]

BILLING CODE 6717-01-P